DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the infor mation shall have practical utility; (b) the accuracy of the agency's estimate of the burden of the proposed collection of information; (c) ways to enhance the quality, utility, and clarity of the information to be collected; and (d) ways to minimize the burden of the collection of information on respondents, including through the use of automated collection techniques or other forms of information technology.

Proposed Project: State Targeted Response to the Opioid Crisis Grant Program Reports—NEW

The Substance Abuse and Mental Health Services Administration (SAMHSA) is authorized under Section 1003 of the 21st Century Cures Act, as amended, to support a grant program, for up to 2 years, that addresses the supplemental activities pertaining to opioids currently undertaken by the state agency or territory and will support a comprehensive response to the opioid epidemic. The State Targeted Response to the Opioid Crisis Grant (Opioid STR) program addresses Healthy People 2020, Substance Abuse Topic Area HP 2020-SA.The primary purpose of Opioid STR is to address the opioid crisis by increasing access to treatment, reducing unmet treatment need, and reducing opioid overdose related deaths through the provision of prevention, treatment and recovery activities for opioid use disorder (OUD) (including prescription opioids as well as illicit drugs such as heroin).

There will be up to 59 (states and jurisdictions) award recipients in this program. All funded states and jurisdictions will be asked to report on their implementation and performance through an online data collection system. Award recipients will report performance on the following measures specific to this program: Number of people who receive OUD treatment, number of people who receive OUD recovery services, number of providers implementing medication-assisted treatment, and the number of OUD prevention and treatment providers trained, to include NPs, PAs, as well as physicians, nurses, counselors, social workers, case managers, etc.

This information will be collected at the mid-point and conclusion of each grant award year.

Additionally, each award recipient will describe the purposes for which the grant funds received were expended and the activities under the program, and the ultimate recipients of amounts provided to the grantee in the grants.

Annualized Estimated Burden Hours for the Progress Report
Respondent | Number of respondents | Number of responses per respondent | Total responses | Average burden per response (in hours) | Total burden hours
State and Jurisdictions | 57 | 2 | 114 | 8.0 | 912

Link for the tables: https://www.samhsa.gov/sites/default/files/grants/pdf/ti-17-014-tables.pdf.

Send all comments via email to OpioidSTR@samhsa.hhs.gov. Comments should be received by June 19, 2017.

Summer King,
Statistician.

[FR Doc. 2017-07947 Filed 4-19-17; 8:45 am]

BILLING CODE 4162-20-P